DEPARTMENT OF TRANSPORTATION

Federal Highway Administration

[Docket No. FHWA-2004-18785]

Agency Information Collection Activities; Request for Comments; Clearance of a New Information Collection; Evaluate the Effects of Appraisal Waivers

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by December 20, 2004.

ADDRESSES: You may submit comments identified by DOT DMS Docket Number FHWA-2004-18785 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Reginald Bessmer, 202-366-2037, Office of Real Estate Services, Federal Highway Administration, Department of Transportation, 400 Seventh Street, SW., Washington, DC 20590. Office hours are from 7:30 a.m. to 5 p.m., Monday through Friday, except Federal holidays.

SUPPLEMENTARY INFORMATION:

Title: Evaluate the Effects of Appraisal Waivers.

Abstract: The Uniform Relocation Assistance and Real Property Acquisition Properties Act of 1970, as amended, provides that “Real property shall be appraised before the initiation of negotiations, and that the owner, or the owner's designated representative shall be given an opportunity to accompany the appraiser during the appraiser's inspection of the property, except that the head of the lead agency may prescribe a procedure to waive the appraisal in cases involving the acquisition by sale or donation of property with a low fair market value.” The appraisal waiver policy is based on the premise that administrative costs, particularly appraisal costs, should not be a high proportion, or even exceed the value of the actual real property to be acquired. The procedure to waive the appraisal is specified in 49 CFR 24.102(c) and allows agencies acquiring real property to “ * * * determine that an appraisal is unnecessary because the valuation problem is uncomplicated and the fair market value is estimated at $2,500 or less, based on a review of available data.” The Federal Highway Administration (FHWA) has expanded this policy through 49 CFR 24.7, Federal agency waiver of regulations, to allow the State Departments of Transportation, at their request, to raise the appraisal waiver threshold to a maximum of $10,000 and more recently, to a maximum of $25,000. This information collection involves a survey to determine the impact of FHWA's appraisal waiver policy on the acquisition of real property by agreements with owners, subsequent litigation (eminent domain), consistent treatment for owners, and public confidence in Federal land acquisition practices. Also, the FHWA seeks to determine the impacts that the FHWA's appraisal waiver procedures may have on the State DOTs' operations. The information to be collected will be used to determine whether the appraisal waiver policy, as implemented by the FHWA through its State Department of Transportation partners, is accomplishing its intended goals. This includes, minimizing administrative costs, expediting the acquisition of real property, avoiding litigation, and maintaining consistent treatment for owners. The information will also help identify and analyze the impact of unknown and unintended consequences of the appraisal waiver program, as implemented by the FHWA.

Respondents: 50 State Departments of Transportation, the District of Columbia and Puerto Rico (Right-of-Way Department).

Frequency: This is a one-time survey.

Estimated Average Burden per Response: 3 hours.

Estimated Total Annual Burden Hours: 156 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Privacy Act: Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

Authority: The Paperwork Reduction Act of 1995; 44 U.S.C. Chapter 35, as amended; and 49 CFR 1.48.

Issued On: October 7, 2004.
James R. Kabel,
Chief, Management Programs and Analysis Division.

[FR Doc. 04-23550 Filed 10-20-04; 8:45 am]

BILLING CODE 4910-22-P